DEPARTMENT OF ENERGY

Federal Energy Regulatory Commission

Combined Notice of Filings

Take notice that the Commission has received the following Natural Gas Pipeline Rate and Refund Report filings:

Filings Instituting Proceedings

Docket Numbers: PR23-16-000.

Applicants: Kinder Morgan Texas Pipeline LLC.

Description: § 284.123 Rate Filing: MBR Informational Filing to be effective N/A.

Filed Date: 12/6/22.

Accession Number: 20221206-5119.

Comment Date: 5 p.m. ET 12/27/22.

Docket Numbers: PR23-17-000.

Applicants: Kinder Morgan Keystone Gas Storage LLC.

Description: § 284.123 Rate Filing: MBR Informational Filing to be effective N/A.

Filed Date: 12/6/22.

Accession Number: 20221206-5120.

Comment Date: 5 p.m. ET 12/27/22.

Docket Numbers: RP22-1118-000.

Applicants: MountainWest Overthrust Pipeline, LLC.

Description: MountainWest Overthrust Pipeline, LLC submits a Cost and Revenue Study.

Filed Date: 12/6/22.

Accession Number: 20221206-5135.

Comment Date: 5 p.m. ET 12/19/22.

Docket Numbers: RP22-1121-000.

Applicants: Stagecoach Pipeline & Storage Company LLC.

Description: Stagecoach Pipeline & Storage Company LLC submits a Cost and Revenue Study.

Filed Date: 12/6/22.

Accession Number: 20221206-5125.

Comment Date: 5 p.m. ET 12/19/22.

Docket Numbers: RP23-270-000.

Applicants: Tennessee Gas Pipeline Company, L.L.C.

Description: Compliance filing: MBR Informational Filing to be effective N/A.

Filed Date: 12/6/22.

Accession Number: 20221206-5118.

Comment Date: 5 p.m. ET 12/19/22.

Docket Numbers: RP23-271-000.

Applicants: Bear Creek Storage Company, L.L.C.

Description: Compliance filing: Annual Fuel Summary 2022 to be effective N/A.

Filed Date: 12/7/22.

Accession Number: 20221207-5029.

Comment Date: 5 p.m. ET 12/19/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP23-249-001.

Applicants: MarkWest Pioneer, L.L.C.

Description: Tariff Amendment: Substitute Tariff Record to be effective 1/1/2023.

Filed Date: 12/6/22.

Accession Number: 20221206-5080.

Comment Date: 5 p.m. ET 12/19/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 7, 2022.
Kimberly D. Bose,
Secretary.

[FR Doc. 2022-26995 Filed 12-12-22; 8:45 am]

BILLING CODE 6717-01-P